DEPARTMENT OF TRANSPORTATION

Federal Railroad Administration

[Docket No. FRA-2023-0002-N-5]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before May 23, 2023.

ADDRESSES: Written comments and recommendations for the proposed ICR should be submitted on regulations.gov to the docket, Docket No. FRA-2023-0002. All comments received will be posted without change to the docket, including any personal information provided. Please refer to the assigned OMB control number (2130-0599) in any correspondence submitted. FRA will summarize comments received in response to this notice in a subsequent notice and include them in its information collection submission to OMB for approval.

FOR FURTHER INFORMATION CONTACT: Ms. Arlette Mussington, Information Collection Clearance Officer, at email: arlette.mussington@dot.gov or telephone: (571) 609-1285, or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: System Safety Program Plan.

OMB Control Number: 2130-0599.

Abstract: In 2020, FRA issued a final rule ¹ that requires passenger rail operations to develop and implement a system safety program (SSP) to improve the safety of their operations. Each passenger rail operation has the flexibility to tailor an SSP to its specific railroad operations.

¹ 85 FR 12826 (Mar. 4, 2020).

FRA uses the information collected to help ensure that commuter and intercity passenger rail operations establish and implement SSPs to improve the safety of their operations and to confirm compliance with the rule. Each railroad operation should use its SSP to proactively identify and mitigate or eliminate hazards and the resulting risk on its system at an early stage to reduce the number of railroad accidents, incidents, and associated injuries, fatalities, and property damage. A passenger rail operation has the flexibility to tailor an SSP to its specific operations. An SSP will be implemented when FRA approves a passenger rail operation's submitted SSP plan. Under the SSP regulation, FRA will audit a passenger rail operation's compliance with its SSP plan and will use the information collected to ensure compliance with this regulation.

In this 60-day notice, FRA has made multiple adjustments to its estimated paperwork burden, resulting in a reduction of 388 hours, from 2,279 hours in the current inventory to 1,891 hours in the requested inventory. The primary reason for the reduction in the estimated paperwork burden is the expected decrease in the number of responses. Specifically, all passenger rail operations currently subject to the regulation have already submitted their SSP plans, leading to a decrease in the overall PRA burden. This reduction in submissions, reduced by 427 hours, has significantly contributed to the overall decrease in the estimated paperwork burden hours in the requested inventory. FRA has uploaded a table on regulations.gov under Docket No. FRA-2023-0002, which displays all the burden adjustments.

Type of Request: Extension without change (with changes in estimates) of a currently approved collection.

Affected Public: Businesses.

Form(s): N/A.

Respondent Universe: 33 passenger rail operations + 1 new passenger rail operation.

Frequency of Submission: On occasion.

Reporting Burden
CFR section | Respondent universe | Total annual responses | Average time per response | Total annual burden hours | Total cost equivalent in U.S. dollar
|  | (A) | (B) | (C = A * B) | (D = C * wage rates) ²
270.101—System safety program; general | The estimated paperwork burden for this regulatory requirement is covered under § 270.103.
270.103—System safety program plan (SSP plan)—Comprehensive written SSP plan that meets all of this section's requirements and approved by FRA under the process specified in § 270.201 | 1 new passenger rail operation | 1.00 plan | 40 hours | 40.00 hours | $4,389.60
—(e)(6)(iii) Copies of passenger rail operation (PRO) designations to non-profit employee labor organizations | 1 new passenger rail operation | 1.00 copy | 2 minutes | .03 hour | 2.34
—(e)(6) Designation notifications to employees not represented by non-profit employee labor organizations | 1 new passenger rail operation | 1.00 notice | 5 minutes | .08 hour | 6.23
—(i)(6) Records of system safety training for employees/contractors/others | 33 passenger rail operations + 1 new passenger rail operation | 510.00 records | 15 seconds | 2.13 hours | 165.95
—(q)(1) Risk-based hazard analysis—Performance of risk-based hazard analyses and furnishing of results of risk-based hazard analyses upon request of FRA/participating part 212 States | 33 passenger rail operations + 1 new passenger rail operation | 34.00 analyses results | 20 hours | 680.00 hours | 52,978.80
—(q)(2) Identification and implementation of risk mitigation methods and furnishing of descriptions of specific risk mitigation methods that address hazards upon request of FRA/participating part 212 States | 33 passenger rail operations + 1 new passenger rail operation | 34.00 mitigation methods descriptions | 10 hours | 340.00 hours | 26,489.40
—(q)(3) Ad hoc risk-based hazard analysis pursuant to paragraphs (q)(1) and (q)(2) of this section when there are significant operational changes, system extensions, system modifications, or other circumstances that have direct impact on railroad safety | 33 passenger rail operations + 1 new passenger rail operation | 3.00 analyses | 10 hours | 30.00 hours | 2,337.30
—(r)(1) Performance of technology analysis and furnishing of results of system's technology analysis upon request of FRA/participating part 212 States | 33 passenger rail operations + 1 new passenger rail operation | 34.00 results of technology analysis | 10 hours | 340.00 hours | 26,489.40
270.107(a)—Consultation requirements—Consultation with directly affected employees on SSP plan | 33 passenger rail operations + 1 new passenger rail operation | 6.00 consults (w/labor union reps.) | 1 hour | 6.00 hours | 467.46
—(a)(3)(ii) Notification to directly affected employees of preliminary meeting at least 60 days before being held | 33 passenger rail operations + 1 new passenger rail operation | 6.00 notices | 30 minutes | 3.00 hours | 233.73
—(b) Consultation statements that include service list with name & contact information for labor organization chairpersons & non-union employees who participated in process | 33 passenger rail operations + 1 new passenger rail operation | 6.00 statements | 1 hour | 6.00 hours | 467.46
—(b)(3) Copies of consultation statements to service list individuals | 33 passenger rail operations + 1 new passenger rail operation | 6.00 copies | 1 minute | .10 hour | 7.79
—(c) Statements from directly affected employees | FRA anticipates zero submissions during this 3-year ICR period.
—(d) Consultation requirements for SSP plan amendments | The estimated paperwork burden for this regulatory requirement is covered under § 270.103.
270.201(b)—Filing and approval SSP plan—Amended or corrected SSP plan | 33 passenger rail operations + 1 new passenger rail operation | 5.00 amended plans | 30 hours | 150.00 hours | 11,686.50
—(c) Review of amended SSP Plan found deficient and requiring further amendment | 33 passenger rail operations + 1 new passenger rail operation | 1.00 further amended plan | 20 hours | 20.00 hours | 1,558.20
—(d) Reopened review of initial SSP plan approval for cause stated | 33 passenger rail operations + 1 new passenger rail operation | 1.00 amended plan | 30 hours | 30.00 hours | 2,337.30
270.203—Retention of SSP plan—Retained copies of SSP plans | 33 passenger rail operations + 1 new passenger rail operation | 34.00 copies | 10 minutes | 5.67 hours | 441.75
270.303—Annual internal SSP assessments | 33 passenger rail operations + 1 new passenger rail operation | 34.00 evaluations/reports | 2 hours | 68.00 hours | 5,297.88
—(c) Certification of results of internal assessment by chief safety official | 33 passenger rail operations + 1 new passenger rail operation | 34.00 certification statements | 2 hours | 68.00 hours | 7,462.32
270.305(b)(1)—External safety audit—Submission of improvement plans in response to results of FRA audit | 33 passenger rail operations + 1 new passenger rail operation | 6.00 plans | 12 hours | 72.00 hours | 7,901.28
—(b)(2) Improvement plans found deficient by FRA and requiring amendment | 33 passenger rail operations + 1 new passenger rail operation | 2.00 amended plans | 10 hours | 20.00 hours | 1,558.20
—(b)(3) Status report to FRA of implementation of improvements set forth in the improvement plan | 33 passenger rail operations + 1 new passenger rail operation | 2.00 reports | 4 hours | 8.00 hours | 623.28
Subpart E—Fatigue Risk Management Programs | The estimated paperwork burden for this regulatory requirement is covered under OMB Control Number 2130-0633.
Appendix B—Additional documents provided to FRA upon request | 33 passenger rail operations + 1 new passenger rail operation | 4.00 documents | 15 minutes | 1.00 hour | 77.91
Appendix C—Written requests to file required submissions electronically | 33 passenger rail operations + 1 new passenger rail operation | 2.00 written requests | 15 minutes | .50 hour | 38.96
Totals ³ | 33 passenger rail operations + 1 new passenger rail operation | 767 responses | N/A | 1,891 hours | 153,019

Total Estimated Annual Responses: 767.

² The dollar equivalent cost is derived from the 2021 Surface Transportation Board Full Year Wage A&B data series using the appropriate employee group hourly wage rate that includes a 75-percent overhead charge.

³ Totals may not add due to rounding.

Total Estimated Annual Burden: 1,891 hours.

Total Estimated Annual Burden Hour Dollar Cost Equivalent: $153,019.

FRA informs all interested parties that it may not conduct or sponsor, and a respondent is not required to respond to, a collection of information that does not display a currently valid OMB control number.

(Authority: 44 U.S.C. 3501-3520)

Brett A. Jortland,
Deputy Chief Counsel.

[FR Doc. 2023-06082 Filed 3-23-23; 8:45 am]

BILLING CODE 4910-06-P